DEPARTMENT OF ENERGY

Notice of Request for Information; Bipartisan Infrastructure Law (BIL)—Request for Information on Energy Improvements at Public School Facilities

AGENCY: Office of Energy Efficiency and Renewable Energy, Department of Energy.

ACTION: Request for information.

SUMMARY: The U.S. Department of Energy (DOE) invites public comment on its request for information (RFI) number DE-FOA-0002715 regarding the implementation of the Infrastructure Investment and Jobs Act (IIJA), Grants for Energy Efficiency Improvements and Renewable Energy Improvements at Public School Facilities. The purpose of this RFI is to solicit feedback from Local Education Agencies (LEAs), school staff, states, local governments, energy service companies, unions, service providers, utilities, researchers, community partners, manufacturers, and other stakeholders on issues related to program development and execution of IIJA. The Office of Energy Efficiency and Renewable Energy (EERE) is specifically interested in information on capacity development and technical assistance needs of applicants and their stakeholders and partners; how to define, support, and leverage the needs assessments required of applicants; initial methodologies for evaluating priority eligibility and award metrics; potential partnerships structures and models to achieve the goals of the provision and maximize impact; pathways and models to leverage the financial investments to reach more facilities and achieve deeper impact; and workforce development.

DATES: Responses to the RFI must be received by 5:00 p.m. (ET) on May 18, 2022.

ADDRESSES: Interested parties are to submit comments electronically to SchoolsRFI@doe.gov. Include “Schools RFI Response” in the subject line of the email. Responses must be provided as attachments to an email. It is recommended that attachments with file sizes exceeding 25MB be compressed (i.e., zipped) to ensure message delivery. Responses must be provided as a Microsoft Word (.docx) attachment to the email, and no more than 10 pages in length, 12-point font, 1 inch margins. Only electronic responses will be accepted.

Please identify your answers by responding to a specific question or topic if applicable. Respondents may answer as many or as few questions as they wish.

EERE will not respond to individual submissions or publish publicly a compendium of responses. A response to this RFI will not be viewed as a binding commitment to develop or pursue the project or ideas discussed. The complete RFI document is located at https://eere-exchange.energy.gov/.

FOR FURTHER INFORMATION CONTACT: Questions may be addressed to SchoolsRFI@doe.gov or Sam Petty at 240-562-1335. Further instruction can be found in the RFI document posted on EERE Exchange.

SUPPLEMENTARY INFORMATION: The 100,000 public K-12 schools across the United States (U.S.) contain the classrooms, libraries, cafeterias, playgrounds, and gyms where 50 million students learn, eat, build friendships, and exercise. As the second largest sector of public infrastructure spending in the U.S., public K-12 schools are also a center of our communities, serving as voting and polling locations, emergency shelters, and community gathering places. The significant under-investment in energy improvements at American schools, however, results in unnecessarily high utility costs and contributes to unhealthy and uncomfortable environments for students, teachers, and staff.

The Infrastructure Investment and Jobs Act (IIJA) (Pub. L. 117-58), American Rescue Plan Act of 2021 (ARP) (Pub. L. 117-2), and 2021 Coronavirus Response and Relief Supplemental Appropriations Act (CRRSAA) (Pub. L. 116-260, Div. M), provide tens of billions of dollars in new funding to U.S. K-12 public schools for facility and transportation improvements. Strategic use of this funding will help remedy the historic inequity of school facilities investments, reduce school energy expenditures, help schools lead the nation in solving the climate crisis, and create good-paying union jobs.

Through this RFI, the U.S. Department of Energy (DOE) Office of Energy Efficiency and Renewable Energy (EERE) seeks input regarding the implementation of Section 40541 of the IIJA, which provides $500 million for grants for energy improvements ¹ at public school facilities. DOE aims to facilitate substantial additional investment, prioritize schools with high needs, minimize administrative burden, and build enduring capacity in local educational agencies (LEAs) and the states to maximize impact equitably and efficiently. DOE is seeking information amongst these six categories of questions:

¹ See IIJA Section 40541(a)(4) for statutory definition.

1. Capacity Development for Local Education Agencies

2. Needs Assessments

3. Criteria and Metrics

4. Workforce

5. Leveraging Funds

6. Partnership Structures

The RFI is available at: https://eere-exchange.energy.gov/.

Confidential Business Information: Pursuant to 10 CFR 1004.11, any person submitting information that he or she believes to be confidential and exempt by law from public disclosure should submit via email, postal mail, or hand delivery two well-marked copies: One copy of the document marked “confidential” including all the information believed to be confidential, and one copy of the document marked “non-confidential” with the information believed to be confidential deleted. Submit these documents via email or on a CD, if feasible. DOE will make its own determination about the confidential status of the information and treat it according to its determination.

Signing Authority: This document of the Department of Energy was signed on April 1, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 5, 2022.
Treena V. Garrett,
Federal Register Liaison Officer, U.S. Department of Energy.

[FR Doc. 2022-07548 Filed 4-7-22; 8:45 am]

BILLING CODE 6450-01-P